DEPARTMENT OF STATE

[Public Notice 3502]

Bureau of Diplomatic Security, Office of Foreign Missions, Tax and Customs Unit; Information Collection Under Emergency Review: Form DS-1504, Request for Customs Clearance of Merchandise

AGENCY: Department of State.

ACTION: Notice.

SUMMARY: The Department of State has submitted the following information collection request to the Office of Management and Budget (OMB) for review and approval in accordance with the emergency review procedures of the Paperwork Reduction Act of 1995.

Type of Request: Emergency.

Originating Office: DS/OFM/VTC/TC.

Title of Information Collection: Request for Customs, Clearance of Merchandise.

Frequency: As needed.

Form Number: DS-1504.

Respondents: The foreign diplomatic and consular community in the United States; certain international organizations; and the Office of the President.

Estimated Number of Respondents: approx. 6,100.

Average Hours Per Response: one half hour.

Total Estimated Burden: 3,463.

The proposed information collection is published to obtain comments from the public and affected agencies. Emergency review and approval of this collection has been requested from OMB by 12/15/00. If granted, the emergency approval is only valid for 180 days. Comments should be directed to the State Department Desk Officer, Office of Information and Regulatory Affairs, Office of Management and Budget (OMB), Washington, DC 20530, (202) 395-5871.

During the first 60 days of this same period a regular review of this information collection is also being undertaken. Comments are encouraged and will be accepted until the date of the 60th day from the date of publication of this notice in the Federal Register. The agency requests written comments and suggestions from the public and affected agencies concerning the proposed collection of information. Your comments are being solicited to permit the agency to:

• Evaluate whether the proposed collection of information is necessary for the proper performance of the functions of the agency, including whether the information will have any practical utility.

• Evaluate the accuracy of the agency's estimate of the burden of the proposed collection, including the validity of the methodology and assumptions used.

• Enhance the quality, utility, and clarity of the information to be collected.

• Minimize the reporting burden on those who are to respond, including through the use of automated collection techniques or other forms of technology.

FOR ADDITIONAL INFORMATION CONTACT: Public comments, or requests for additional information, regarding the collection listed in this notice should be directed to U.S. Department of State, DS/OFM/VTC/TC, State Annex 33, Room 212, Washington, DC 20520. Tele. no. 202 895-3618.

Dated: December 1, 2000.
Theodore Strickler,
Deputy Assistant Secretary of State, U.S. Department of State, Bureau of Diplomatic Security, Office of Foreign Missions.

[FR Doc. 00-31739 Filed 12-12-00; 8:45 am]

BILLING CODE 4710-43-U